CONSUMER PRODUCT SAFETY COMMISSION

Sunshine Act Meetings

Time and Date: Wednesday February 10, 2016, 10:00 a.m.-12:00 p.m.

Place: Room 837-C, Enter on the Fourth Floor, Bethesda Towers, 4330 East West Highway, Bethesda, Maryland.

Status: Commission Meeting—Open to the Public.

Matter to be Considered: Briefing Matter: Fiscal Year 2016 Operating Plan.

A live webcast of the Meeting can be viewed at www.cpsc.gov/live.

Contact Person for More Information: Todd A. Stevenson, Office of the Secretary, U.S. Consumer Product Safety Commission, 4330 East West Highway, Bethesda, MD 20814, (301) 504-7923.

Dated: February 2, 2016.
Todd A. Stevenson,
Secretariat.

[FR Doc. 2016-02227 Filed 2-2-16; 11:15 am]

BILLING CODE 6355-01-P